DEPARTMENT OF COMMERCE

National Oceanic and Atmospheric Administration

RIN: 0648-XM97

North Pacific Fishery Management Council; Public Meeting

AGENCY: National Marine Fisheries Service (NMFS), National Oceanic and Atmospheric Administration (NOAA), Commerce.

ACTION: Notice of a public meeting of the North Pacific Fishery Management Council's Scallop Plan Team.

SUMMARY: The North Pacific Fishery Management Council (Council) Scallop Plan Team will meet February 20-21, 2009, in Anchorage, AK.

DATES: The meeting will be held on February 20, 2009, from 10:30 a.m. to 5 p.m. and February 21, 2009, from 9 a.m. to 12 noon.

ADDRESSES: The meeting will be held at the Anchorage Hilton Hotel, 500 West 3rd Avenue, Fireweed Room, Anchorage, AK.

Council address: North Pacific Fishery Management Council, 605 W. 4th Ave., Suite 306, Anchorage, AK 99501-2252.

FOR FURTHER INFORMATION CONTACT: Diana Stram, Council staff, telephone: (907) 271-2809.

SUPPLEMENTARY INFORMATION: Agenda: Essential Fish Habitat (EFH) description plan for revisions; Final Rule on Annual Catch Limits (ACLs) discussion of plans to revise Scallop FMP for ACL compliance; Review current regulations on VMS requirements; Review update on Scallop Observer Program; Review any pending BOF actions or regulatory changes; Status of Statewide Scallop Stocks and preparation of the SAFE report; Review ageing techniques and protocol issues and update; Review and revise research priorities.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen, at (907) 271-2809, at least 7 working days prior to the meeting date.

Dated: February 27, 2009.
Tracey L. Thompson,
Acting Director, Office of Sustainable Fisheries, National Marine Fisheries Service.

[FR Doc. E9-2057 Filed 1-29-09; 8:45 am]

BILLING CODE 3510-22-S